DEPARTMENT OF COMMERCE

National Oceanic and Atmospheric Administration

[XRIN: 0648-XA13]

North Pacific Fishery Management Council; Public Meetings

AGENCY: National Marine Fisheries Service (NMFS), National Oceanic and Atmospheric Administration (NOAA), Commerce.

ACTION: Notice of public meetings.

SUMMARY: The North Pacific Fishery Management Council (Council) and its advisory committees will hold public meetings.

DATES: The meetings will be held on June 4, 2007 through June 12, 2007. See SUPPLEMENTARY INFORMATION for specific dates and times.

ADDRESSES: Council meeting - Centennial Hall, 330 Harbor Drive, Sitka, AK.

Council address: North Pacific Fishery Management Council, 605 W. 4th Avenue, Suite 306, Anchorage, AK 99501-2252.

FOR FURTHER INFORMATION CONTACT: David Witherell, Council staff, Phone: 907-271-2809.

SUPPLEMENTARY INFORMATION: The Council will begin its plenary session at 8 a.m. on Wednesday, June 6, continuing through June 12, 2007. The Council's Advisory Panel (AP) will begin at 8 a.m., Monday, June 4 and continue through Saturday June 9. The Scientific and Statistical Committee (SSC) will begin at 8 a.m. on Monday, June 4 and continue through Wednesday June 6, 2007. The Enforcement Committee will meet Tuesday, June 5, from 1 p.m. to 4 p.m. at the Centennial Hall. All meetings are open to the public, except executive sessions.

Council Plenary Session: The agenda for the Council's plenary session will include the following issues. The Council may take appropriate action on any of the issues identified.

1. Reports

a. Executive Director's Report (including Standard Operations Practices and Procedures review and approval)

b. NMFS Management Report (including updates on cost recovery, crab quota real-time transfers, crab right of first refusal, charter halibut moratorium appeals provisions)

c. NMFS Enforcement Report

d. U.S. Coast Guard Report

e. Alaska Department of Fish & Game Report

f. U.S. Fish & Wildlife Service Report

g. Protected Species Report (including review of Endangered Species Act compendium, progress report on Steller Sea Lion (SSL) Recovery Plan peer review, report to SSC on List of Fisheries, SSL Mitigation Committee Report)

2. Charter Halibut Management: Receive Stakeholder Committee report on compensated reallocation elements; action as necessary; Final action on Area 2C Guideline Harvest Levels (GHLs) measures.

3. Halibut Subsistence: Review discussion paper on rural definition; action as necessary.

4. Trawl License Limitation Program (LLP) Recency: Review information on LLP requirements and landings thresholds; action as necessary.

5. Bering Sea Aleutian Island (BSAI) Crab Management: Receive reports from Crab Plan Team and Pacific Northwest Crab Industry Advisory Committee, Initial review of crab overfishing definition analysis; Review Discussion paper on custom processing; review discussion paper on “Active Participation” for C-shares; Review discussion paper on Post-delivery Transfers (crab and rockfish).

6. Observer Program: Review discussion paper on regulatory changes; Review committee report, provide direction on regulatory package.

7. Community Development Quota (CDQ): Discussion paper on CDQ program and Magnuson-Stevens Act amendments, and legal opinion, and action as necessary; Initial Review/Final action on regulation of harvest package.

8. Research Priorities: Review and adopt research priorities for 2007-08.

9. Groundfish Management: Initial review of Gulf of Alaska (GOA) arrowtooth Maximum Retainable Amount (MRA) adjustment (T); Salmon Bycatch Workgroup report, refine alternatives for analysis; Review and approve Guidelines for External Review; Review Experimental Fishing Permit for electronic monitoring of Central Gulf of Alaska rockfish fisheries (T).

10. Habitat Conservation: Final action on Bering Sea habitat conservation measures; Review Habitat Area of Particular Concern (HAPC) priorities and timing, action as necessary.

11. Aleutian Island Fishery Ecosystem Plan (FEP): Review and approve Aleutian Island FEP.

12. Arctic Management: Review discussion paper, and take action as necessary.

13. Staff Tasking: Review Committees and tasking, and take action as necessary; Review Programmatic Supplemental Environmental Impact Statement workplan priorities.

14. Other Business

The SSC agenda will include the following issues:

1. Protected Species

2. Crab Management

3. Research Priorities

4. BSAI Crab Management

5. Aleutian Island Fishery Ecosystem Plan

6. Arctic Management

The Advisory Panel will address the same agenda issues as the Council, except for reports. The Agenda is subject to change, and the latest version will be posted at http://www.fakr.noaa.gov/npfmc/.

Special Accommodations

These meetings are physically accessible to people with disabilities. Requests for sign language interpretation or other auxiliary aids should be directed to Gail Bendixen at (907) 271-2809 at least 7 working days prior to the meeting date.

Dated: May 7, 2007.
Tracey L. Thompson,
Acting Director, Office of Sustainable Fisheries, National Marine Fisheries Service.

[FR Doc. E7-9051 Filed 5-9-07; 8:45 am]

BILLING CODE 3510-22-S